DEPARTMENT OF JUSTICE

Notice of Lodging of Proposed Consent Decree Under the Comprehensive Environmental Response, Compensation, and Liability Act

On March 11, 2015, the Department of Justice lodged a proposed Consent Decree with the United States District Court for the Southern District of Illinois in the lawsuit entitled United States v. Pharmacia LLC and Solutia Inc., Civil Action No. 13-0138.

The United States filed this lawsuit under the Comprehensive Environmental Response, Compensation, and Liability Act (“CERCLA”). The United States' complaint names Pharmacia LLC and Solutia Inc. as defendants. The complaint requests recovery of oversight and other response costs that the United States incurred in connection with an Administrative Order for Remedial Design and Interim Remedial Action, Docket No. V-W-02-C-716, issued by EPA on September 30, 2002 (the “2002 Order”), to prevent groundwater contamination releasing to the Mississippi River adjacent to Sauget Area 2 disposal Site R and the resulting impact area located in Sauget, St. Clair County, Illinois. Both defendants signed the Consent Decree, agreeing to pay a total of $1.7 million in response costs. In return, the United States agrees not to sue the defendants under sections 106 and 107 of CERCLA related to these past response costs.

The publication of this notice opens a period for public comment on the proposed Consent Decree. Comments should be addressed to the Assistant Attorney General, Environment and Natural Resources Division, and should refer to United States v. Pharmacia, LLC and Solutia Inc., D.J. Ref. No. 90-11-2-06089/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $63.50 (25 cents per page reproduction cost) payable to the United States Treasury. For a paper copy without Appendix A (the 2002 Order), the cost is only $5.25.

Randall M. Stone,
Acting Assistant Section Chief, Environmental Enforcement Section, Environment and Natural Resources Division.

[FR Doc. 2015-06033 Filed 3-16-15; 8:45 am]

BILLING CODE 4410-15-P